NATIONAL AERONAUTICS AND SPACE ADMINISTRATION

48 CFR Parts 1806, 1813, 1815, 1835, 1852, and 1872

Implementing Foreign Proposals to NASA Research Announcements on a No-Exchange-of-Funds Basis

AGENCY: National Aeronautics and Space Administration (NASA).

ACTION: Interim rule adopted as final with changes.

SUMMARY: This is a final rule amending the NASA FAR Supplement (NFS) to conform the handling of foreign proposals under NASA Research Announcements (NRAs) with that under Announcements of Opportunity (AOs).

EFFECTIVE DATE: January 20, 2000.

FOR FURTHER INFORMATION CONTACT: Celeste Dalton, NASA Headquarters, Code HK, Washington, DC 20546, (202) 358-1645, email: celeste.dalton@hq.nasa.gov.

SUPPLEMENTARY INFORMATION:

A. Background

NASA is adopting as final, with changes, the interim rule published in the Federal Register (64 FR 48560-48562, September 7, 1999) that revised NFS Parts 1852, Solicitation Provisions and Contract Clauses, and 1872, Acquisition of Investigations. One comment, addressing submission requirements, was received in response to the interim rule, and was considered in the development of the final rule. Editorial and administrative changes are included in the final rule. Included in these changes is a revision to the proposal submission requirements to be consistent with internal procedures. All the revisions in this final rule are considered administrative or editorial and do not involve a significant change in Agency policy.

B. Regulatory Flexibility Act

NASA certifies that this final rule will not have a significant economic impact on a substantial number of small business entities within the meaning of the Regulatory Flexibility Act, (5 U.S.C. 601, et seq.), because it only affects small business entities in the rare circumstance when such entities team with a foreign entity in response to a NRA.

C. Paperwork Reduction Act

The Paperwork Reduction Act does not apply because the changes to the NFS do not impose any recordkeeping or information collection requirements, or collections of information from offerors, contractors, or members of the public that require the approval of the Office of Management and Budget under 44 U.S.C. 3501, et seq.

List of Subjects in 48 CFR Parts 1806, 1813, 1815, 1835, 1852, and 1872

Government procurement.

Tom Luedtke,
Associate Administrator for Procurement.

Interim Rule Adopted as Final With Changes

Accordingly, the interim rule published at 64 FR 48560-48562, September 7, 1999, is hereby adopted as final with the following changes:

1. The authority citation for 48 CFR Parts 1806, 1813, 1815, 1835, 1852, and 1872 continues to read as follows:

Authority: 42 U.S.C. 2473(c)(1).

PART 1852—SOLICITATION PROVISIONS AND CONTRACT CLAUSES

2. In section 1852.235-72, revise the date of the provision; delete paragraphs (l)(2) and (l)(3); redesignate paragraphs (l)((4) through (l)(6) as (l)(2) through (l)(4), respectively; in newly designated paragraph (l)(4) delete (l)(4)(i), redesignate paragraphs (l)(4)(ii) and (l)(4)(iii) as (l)(4)(i) and (l)(4)(ii), respectively; and revise to read as follows.

1852.235-72 Instructions for Responding to NASA Research Announcements.

* * * * *

Instructions for Responding to NASA Research Announcements—January 2000

* * * * *

(l) Additional Guidelines Applicable to Foreign Proposals and Proposals Including Foreign Participation

(1) NASA welcomes proposals from outside the U.S. However, foreign entities are generally not eligible for funding from NASA. Therefore, unless otherwise noted in the NRA, proposals from foreign entities should not include a cost plan unless the proposal involves collaboration with a U.S. institution, in which case a cost plan for only the participation of the U.S. entity must be included. Proposals from foreign entities and proposals from U.S. entities that include foreign participation must be endorsed by the respective government agency or funding/sponsoring institution in the country from which the foreign entity is proposing. Such endorsement should indicate that the proposal merits careful consideration by NASA, and if the proposal is selected, sufficient funds will be made available to undertake the activity as proposed.

(2) All foreign proposals must be typewritten in English and comply with all other submission requirements stated in the NRA. All foreign proposals will undergo the same evaluation and selection process as those originating in the U.S. All proposals must be received before the established closing date. Those received after the closing date will be treated in accordance with paragraph (g) of this provision. Sponsoring foreign government agencies or funding institutions may, in exceptional situations, forward a proposal without endorsement if endorsement is not possible before the announced closing date. In such cases, the NASA sponsoring office should be advised when a decision on endorsement can be expected.

(3) Successful and unsuccessful foreign entities will be contacted directly by the NASA sponsoring office. Copies of these letters will be sent to the foreign sponsor. Should a foreign proposal or a U.S. proposal with foreign participation be selected, NASA's Office of External Relations will arrange with the foreign sponsor for the proposed participation on a no-exchange-of-funds basis, in which NASA and the non-U.S. sponsoring agency or funding institution will each bear the cost of discharging their respective responsibilities.

(4) Depending on the nature and extent of the proposed cooperation, these arrangements may entail:

(i) An exchange of letters between NASA and the foreign sponsor; or

(ii) A formal Agency-to-Agency Memorandum of Understanding (MOU).

* * * * *

PART 1872—ACQUISITION OF INVESTIGATIONS

3. In section 1872.705-2, amend the Management Plan and Cost Plan by deleting paragraph (a)(3)(viii)(A); redesignating paragraphs (a)(3)(viii)(B) and (a)(3)(viii)(C) as (a)(3)(viii)(A) and (a)(3)(viii)(B), respectively; and revising paragraphs (a)(3)(i), (a)(3)(iv), (a)(3)(vi) and (a)(3)(viii) to read as follows.

1872.705-2 Appendix B: Guidelines for Proposal Preparation

* * * * *

Management Plan and Cost Plan

(a) * * *

(3) * * *

(i) Where a “Notice of Intent” to propose is requested, prospective foreign proposers should write directly to the NASA official designated in the AO.

* * * * *

(iv) Proposals including the requested number of copies and letters of endorsement from the foreign governmental agency must be forwarded to NASA in time to arrive before the deadline established for each AO.

* * * * *

(vi) Shortly after the deadline for each AO, the Program Office will advise the appropriate sponsoring agency which proposals have been received and when the selection process should be completed. A copy of this acknowledgment will be provided to each proposer.

* * * * *

(viii) NASA's Office of External Relations will then begin making the arrangements to provide for the selectee's participation in the appropriate NASA program. Depending on the nature and extent of the proposed cooperation, these arrangements may entail:

(A) An exchange of letters between NASA and the sponsoring foreign governmental agency.

(B) An agreement or Memorandum of Understanding between NASA and the sponsoring foreign governmental agency.

* * * * *

[FR Doc. 00-1241 Filed 1-19-00; 8:45 am]

BILLING CODE 7510-01-P